DEPARTMENT OF ENERGY

Federal Energy Regulatory Commission

Combined Notice of Filings

Take notice that the Commission has received the following Natural Gas Pipeline Rate and Refund Report filings:

Filings Instituting Proceedings

Docket Numbers: RP16-822-000.

Applicants: East Cheyenne Gas Storage, LLC.

Description: Compliance filing ECGS 2016 Operational Purchase and Sales Report filing.

Filed Date: 4/5/16.

Accession Number: 20160405-5084.

Comments Due: 5 p.m. ET 4/18/16.

Docket Numbers: RP16-823-000.

Applicants: Iroquois Gas Transmission System, L.P.

Description: § 4(d) Rate Filing: 04/05/16 Negotiated Rates—Consolidated Edison Energy Inc. (HUB) 2275-89 to be effective 4/4/2016.

Filed Date: 4/5/16.

Accession Number: 20160405-5092.

Comments Due: 5 p.m. ET 4/18/16.

Docket Numbers: RP16-824-000.

Applicants: Questar Pipeline Company.

Description: § 4(d) Rate Filing: Statement of Negotiated Rates Version 12.0.0, North Shore E&P to be effective 3/1/2016.

Filed Date: 4/5/16.

Accession Number: 20160405-5188.

Comments Due: 5 p.m. ET 4/18/16.

Docket Numbers: RP16-825-000.

Applicants: Natural Gas Pipeline Company of America.

Description: § 4(d) Rate Filing: Nicor Negotiated Rate to be effective 5/5/2016.

Filed Date: 4/5/16.

Accession Number: 20160405-5190.

Comments Due: 5 p.m. ET 4/18/16.

Docket Numbers: RP16-826-000.

Applicants: Iroquois Gas Transmission System, L.P.

Description: § 4(d) Rate Filing: 04/06/16 Negotiated Rates—Consolidated Edison Energy Inc. (HUB) 2275-89 to be effective 4/5/2016.

Filed Date: 4/6/16.

Accession Number: 20160406-5162.

Comments Due: 5 p.m. ET 4/18/16.

Docket Numbers: RP16-827-000.

Applicants: Rockies Express Pipeline LLC.

Description: § 4(d) Rate Filing: Neg Rate 2016-04-06 CP to be effective 4/7/2016.

Filed Date: 4/6/16.

Accession Number: 20160406-5166.

Comments Due: 5 p.m. ET 4/18/16.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP16-497-001.

Applicants: Bluewater Gas Storage, LLC.

Description: Compliance filing Bluewater Gas Storage, LLC—Order No. 587-W Directed Changes to be effective 4/1/2016.

Filed Date: 4/5/16.

Accession Number: 20160405-5145.

Comments Due: 5 p.m. ET 4/18/16.

Docket Numbers: RP16-504-001.

Applicants: Pine Prairie Energy Center, LLC.

Description: Compliance filing Pine Prairie Energy Center, LLC—Order No. 587-W Directed Changes to be effective 4/1/2016.

Filed Date: 4/5/16.

Accession Number: 20160405-5146.

Comments Due: 5 p.m. ET 4/18/16.

Docket Numbers: RP16-524-002.

Applicants: SG Resources Mississippi, L.L.C.

Description: Compliance filing SG Resources Mississippi, L.L.C.—Order No. 587-W Directed Changes to be effective 4/1/2016.

Filed Date: 4/5/16.

Accession Number: 20160405-5137.

Comments Due: 5 p.m. ET 4/18/16.

Docket Numbers: RP16-451-001.

Applicants: Golden Pass Pipeline LLC.

Description: Report Filing: Supplemental to Revised Filing per Order 587-W Letter Order dated 03/29/2016.

Filed Date: 4/6/16.

Accession Number: 20160406-5170.

Comments Due: 5 p.m. ET 4/18/16.

Docket Numbers: RP16-604-001.

Applicants: Wyckoff Gas Storage Company, LLC.

Description: Compliance filing Order 587-W Compliance to be effective 4/1/2016.

Filed Date: 4/6/16.

Accession Number: 20160406-5143.

Comments Due: 5 p.m. ET 4/18/16.

Docket Numbers: RP16-459-001.

Applicants: Equitrans, L.P.

Description: Compliance filing Compliance Filing—Order Nos. 587-W and 809 to be effective 4/1/2016.

Filed Date: 4/7/16.

Accession Number: 20160407-5044.

Comments Due: 5 p.m. ET 4/19/16.

Docket Numbers: RP16-465-001.

Applicants: Rager Mountain Storage Company LLC.

Description: Compliance filing Compliance Filing—Order Nos. 587-W and 809 to be effective 4/1/2016.

Filed Date: 4/7/16.

Accession Number: 20160407-5046.

Comments Due: 5 p.m. ET 4/19/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 07, 2016.
Nathaniel J. Davis, Sr.,
Deputy Secretary.

[FR Doc. 2016-08608 Filed 4-13-16; 8:45 am]

BILLING CODE 6717-01-P